DEPARTMENT OF THE INTERIOR

Bureau of Reclamation

[FES-06-19]

Long-Term Miscellaneous Purposes Contract, Carlsbad Irrigation District, New Mexico

AGENCY: Bureau of Reclamation, Interior.

ACTION: Notice of Availability for the Long-Term Miscellaneous Purposes Contract Final Environmental Impact Statement, Eddy County, New Mexico.

SUMMARY: The Bureau of Reclamation (Reclamation) and the New Mexico Interstate Stream Commission (NMISC), as joint lead agencies, have prepared and made available to the public a final environmental impact statement (FEIS) pursuant to Section 102(2)(c) of the National Environmental Policy Act of 1969, as amended, 42 United States Code 4332.

ADDRESSES: Copies of the FEIS are available for public inspection and review at the following locations:

• Bureau of Reclamation, Upper Colorado Regional Office, 125 South State Street, Room 7220, Salt Lake City, Utah 84138-1102.

• Bureau of Reclamation, Albuquerque Area Office, Attention: Marsha Carra, 555 Broadway NE., Suite 100, Albuquerque, New Mexico 87102.

• New Mexico Interstate Stream Commission, Attention: Elisa Sims, 230 West Manhattan Avenue, 2nd Floor, Santa Fe, New Mexico 87501.

• Carlsbad Public Library, 101 South Halagueno Street, Carlsbad, New Mexico 88221.

• Carlsbad Irrigation District, 201 South Canal Street, Carlsbad, New Mexico 88220.

The FEIS is also available on the Internet at the following Web address: http://www.usbr.gov/uc/albuq/envdocs/index.html. In addition, interested parties may contact Ms. Aleta Powers, ERO Resources Corporation, 1842 Clarkson Street, Denver, Colorado 80218; telephone (303) 830-1188; e-mail: apowers@eroresources.com.

FOR FURTHER INFORMATION CONTACT: Ms. Marsha Carra, Bureau of Reclamation, Albuquerque Area Office, 555 Broadway NE., Suite 100, Albuquerque, New Mexico 87102; telephone (505) 462-3602; facsimile (505) 462-3780; e-mail: mcarra@uc.usbr.gov or Elisa Sims, New Mexico Interstate Stream Commission, P.O. Box 25102, Santa Fe, New Mexico 87504-5102, telephone (505) 827-3918.

SUPPLEMENTARY INFORMATION: Between 1987 and the present, New Mexico has satisfied its water delivery obligations to Texas under the Pecos River Compact (Compact) and Amended Decree. In some years, New Mexico has over-delivered water to the state line and in other years it has under-delivered. New Mexico has been able to satisfy its Compact obligations in large part because of its leasing program and the fallowing of irrigated land within the Carlsbad Irrigation District (CID). The leasing program within the CID has operated under an existing short-term miscellaneous purposes contract since 1992, which allows foregone, leased irrigation water to be delivered to the state line on behalf of the NMISC.

The State of New Mexico ex rel. the State Engineer, NMISC, Reclamation, the CID, and the Pecos Valley Artesian Conservancy District entered into a Settlement Agreement on March 25, 2003, that resolves litigation, implements a plan to ensure delivery of water to the CID and New Mexico-Texas state line, and settles many water management issues on the Pecos River. An ad hoc committee comprised of water users in the Pecos River Basin was formed to develop a solution for long-term compliance with the Pecos River Compact and Amended Decree, resulting in the Settlement Agreement. In addition, the implementation of the Settlement Agreement is contingent upon fulfilling certain requirements, including the execution of a long-term miscellaneous purposes contract.

On February 28, 2003, Reclamation published a notice in the Federal Register (68 FR 9715-9722) stating plans to execute a contract with the CID that would allow the NMISC to lease water allotted for up to 6,000 acres, or other available Carlsbad Project water (Project water), for purposes other than irrigation, i.e., bypassing water, allowing it to be delivered to Texas. These 6,000 acres, plus 164 acres that the NMISC currently owns within the boundaries of the CID, would be fallowed under this contract. The Commissioner of Reclamation has granted approval to negotiate and execute a long-term miscellaneous purposes contract, pursuant to authority provided by the Sale of Water for Miscellaneous Purposes Act of February 25, 1920, whereby the NMISC would be limited to using or leasing a maximum of 50,000 acre-feet of Project water per year.

Purpose and Need for Action

The purpose of Reclamation's proposed Federal action is to allow the NMISC to use Project water allotted to land located inside the boundaries of the CID that NMISC owns or leases from other members of the CID, or other Project water that NMISC leases, for purposes other than irrigation, specifically for delivery to Texas. As a member of the CID, the NMISC needs to use Project water for purposes other than irrigation to maintain long-term compliance with the Pecos River Compact and the United States Supreme Court Amended Decree in Texas v. New Mexico. The long-term miscellaneous purposes contract would replace a 1999 short-term contract that Reclamation currently has with the CID that allows the NMISC to use Project water for miscellaneous purposes.

Proposed Federal Action

Reclamation's preferred alternative is the execution of a long-term miscellaneous purposes contract and approval of any related third-party contracts. The FEIS assesses the potential effects that the alternative may have on biological, hydrologic, and cultural resources; social and economic settings; and Indian trust assets as well as any potential disproportionate effects on minority or low-income communities (environmental justice). The FEIS also evaluates the effects of the alternatives on the State of New Mexico's ability to meet annual state line delivery obligations associated with the Pecos River Compact and Amended Decree.

The Long-Term Miscellaneous Purposes Contract Draft Environmental Impact Statement (DEIS) was filed with the Environmental Protection Agency on January 12, 2006, and a Notice of Availability for the DEIS was published in the Federal Register on that same date. The 60-day review and comment period for the DEIS ended on March 13, 2006. During the comment period, one public meeting was held in Carlsbad, New Mexico. All comments received on the DEIS were carefully reviewed and considered in preparing the FEIS. Where appropriate, revisions were made to the document in response to specific comments. The comments and responses, together with the final environmental impact statement, will be considered in determining whether or not to implement the proposed action.

No decision will be made on the proposed Federal action until 30 days after release of the FEIS. After the 30-day waiting period, Reclamation will complete a Record of Decision. The Record of Decision will state the action that will be implemented and discuss all factors leading to that decision.

Dated: June 9, 2006.
Dave Sabo,
Assistant Regional Director—UC Region, Bureau of Reclamation.

[FR Doc. E6-11678 Filed 7-20-06; 8:45 am]

BILLING CODE 4310-MN-P